DEPARTMENT OF AGRICULTURE

Commodity Credit Corporation

7 CFR Part 1421

RIN 0560-AH52

Storage Requirements for Grain Security for Marketing Assistance Loans

AGENCY: Commodity Credit Corporation, USDA.

ACTION: Proposed rule; reopening and extension of comment period.

SUMMARY: The Commodity Credit Corporation (CCC) is reopening and extending the comment period for the subject proposed rule. The original comment period for the proposed rule closed August 2, 2006, and CCC is reopening and extending it for 60 days from the date of this notice. CCC also will consider any comments received from August 2, 2006, to the date of this notice. This action responds to requests from the public to provide more time to comment on the proposed rule.

DATES: Comments should be received on or before October 10, 2006.

ADDRESSES: CCC invites interested persons to submit comments on this proposed rule and on the collection of information required to administer the affected regulations. Comments may be submitted by any of the following methods:

• E-mail: Send comments to: kimberly.graham@wdc.usda.gov.

• Fax: Submit comments by facsimile transmission to: (202) 690-1536.

• Mail: Send comments to: Director, Price Support Division, Farm Service Agency, United States Department of Agriculture (USDA), Room 4095-S, 1400 Independence Avenue, SW., Washington, DC 20250-0512.

• Hand Delivery or Courier: Deliver comments to the above address.

• Federal Rulemaking Portal: Go to http://www.regulations.gov. Follow the online instructions for submitting comments.

All written comments will be available for public inspection at the above address during business hours from 8 a.m. to 5 p.m., Monday through Friday.

FOR FURTHER INFORMATION CONTACT: Kimberly Graham; phone: (202) 720-9154; e-mail: kimberly.graham@wdc.usda.gov, or fax: (202) 690-1536.

SUPPLEMENTARY INFORMATION:

Background

On July 3, 2006, CCC published a proposed rule, “Storage Requirements for Grain Security for Marketing Assistance Loans” in the Federal Register (71 FR 37857-37862). The rule proposed changes to the regulations governing the CCC Marketing Assistance Loan Programs authorized by the Farm Security and Rural Investment Act of 2002 (2002 Act). CCC proposed in the rule to no longer require a Federally-licensed warehouse operator or a State-licensed warehouse operator in a State with a warehouse licensing program to execute a CCC storage agreement.

The Agency believes the request for additional time to comment on the proposed rule is reasonable and will allow the rulemaking to proceed in a timely manner. As a result of the reopening and extension, the comment period for the proposed rule will close on October 10, 2006.

Signed in Washington, DC, on August 4, 2006.
Glen L. Keppy,
Executive Vice President, Commodity Credit Corporation.

[FR Doc. E6-13002 Filed 8-9-06; 8:45 am]

BILLING CODE 3410-05-P